DEPARTMENT OF AGRICULTURE

Rural Utilities Service

7 CFR Part 1740

RIN 0572-ACO2

Public Television Station Digital Transition Grant Program

AGENCY: Rural Utilities Service, Agriculture.

ACTION: Final rule.

SUMMARY: This rule adopts as final, the interim final rule published in the Federal Register, (71 FR 3205) on January 20, 2006. The Rural Utilities Service, an agency which administers USDA Rural Development's Utilities Programs (hereinafter “USDA Rural Development” or the “Agency”) is publishing this final rule to allow the Agency to make grants to enable Public Television Stations in rural areas to replace current analog television broadcasting equipment with digital television broadcasting equipment as part of the national transition to digital television service.

DATES: This rule is effective on August 7, 2007.

FOR FURTHER INFORMATION CONTACT: Orren E. Cameron III, Director, Advanced Services Division, USDA Rural Development, Room 2845-S, 1400 Independence Avenue, SW., STOP 1550, Washington, DC, 20250-1550. Telephone: 202-690-4493. FAX: 202-720-10551. E-mail: ed.cameron@wdc.usda.gov.

SUPPLEMENTARY INFORMATION: An interim final rule establishing 7 CFR part 1740, was published in the Federal Register on January 20, 2006 (71 FR 3205). The rule outlined statutory requirements for applicants of the Public Television Station Digital Transition Grant program. A 60-day comment period was provided and ended on March 21, 2006. One comment was received which supported the rule.

At the time of publishing the Interim Final rule, the date for digital transition was December 31, 2006. On February 8, 2006, however, Congress passed the “Digital Television Transition and Public Safety Act of 2005” (see Title III of the Deficit Reduction Act of 2005, Pub. L. 109-171) which created a new deadline date of February 17, 2009, for the cessation of analog television broadcasts, when all television stations will broadcast entirely in digital. Based on the rationale set forth in the interim final rule, the Agency now adopts the interim final rule, as the final rule.

Executive Order 12866

This final rule has been determined to be not significant for purposes of Executive Order 12866, and therefore has not been reviewed by the Office of Management and Budget (OMB).

Catalog of Federal Domestic Assistance

The Catalog of Federal Domestic Assistance (CFDA) Program number assigned to the Public Television Station Digital Transition Grant Program is 10.861. The Catalog is available on a subscription basis from the Superintendent of Documents, the United States Government Printing Office, Washington, DC 20402-9325, telephone number (202) 512-1800.

Executive Order 12372

This program is not subject to the requirements of Executive Order 12372, “Intergovernmental Review of Federal Programs,” as implemented under USDA's regulations at 7 CFR part 3015.

Executive Order 12988

This final rule has been reviewed under Executive Order 12988, Civil Justice Reform. RUS has determined that this final rule meets the applicable standards provided in section 3 of the Executive Order. In addition, all state and local laws and regulations that are in conflict with this rule will be preempted, no retroactive effect will be given to this rule, and, in accordance with Section 212(e) of the Department of Agriculture Reorganization Act of 1994 (7 U.S.C. 6912(e)), administrative appeal procedures, if any, must be exhausted before an action against the Department or its agencies may be initiated.

Executive Order 13132 Federalism

The policies contained in this final rule do not have any substantial direct effect on states, on the relationship between the national government and the states, or on the distribution of power and responsibilities among the various levels of government. Nor does this final rule impose substantial direct compliance costs on state and local governments. Therefore, consultation with states is not required.

Regulatory Flexibility Certification

Pursuant to 5 U.S.C. 553(a)(2), this final rule related to grants is exempt from the rulemaking requirements of the Administrative Procedure Act (5 U.S.C. 551 et seq.), including the requirement to provide prior notice and an opportunity for public comment. Because this interim final rule is not subject to a requirement to provide prior notice and an opportunity for public comment pursuant to 5 U.S.C. 553, or any other law, the analytical requirements of the Regulatory Flexibility Act (5 U.S.C. 601 et seq.) are inapplicable.

Unfunded Mandates

This final rule contains no Federal mandates (under the regulatory provision of Title II of the Unfunded Mandates Reform Act of 1995) for State, local, and tribal governments or the private sector. Therefore, this interim final rule is not subject to the requirements of sections 202 and 205 of the Unfunded Mandates Reform Act of 1995.

Environmental Impact Statement

This final rule has been examined under Agency environmental regulations at 7 CFR part 1794. The Administrator has determined that this action is not a major Federal action significantly affecting the environment. Therefore, in accordance with the National Environmental Policy Act of 1969 (42 U.S.C. 4321 et seq.), an Environmental Impact Statement or Assessment is not required.

Information Collection and Recordkeeping Requirements

This final rule contains no new reporting or recordkeeping burdens under OMB control number 0572-0134 that would require approval under the Paperwork Reduction Act of 1995 (44 U.S.C. Chapter 35).

List of Subjects in 7 CFR Part 1740

Grant programs—Communications, Digital television; Rural areas; Television.

PART 1740—PUBLIC TELEVISION STATION DIGITAL TRANSITION GRANT PROGRAM

Accordingly, the interim final rule adding 7 CFR part 1740, which was published at 71 FR 3205 on January 20, 2006, is adopted as a final rule without change.

Dated: July 11, 2007.
James M. Andrew,
Administrator, Rural Utilities Service.

[FR Doc. E7-15263 Filed 8-6-07; 8:45 am]

BILLING CODE 3410-15-P